DEPARTMENT OF HOMELAND SECURITY

Coast Guard

[Docket No. USCG-2011-0138]

Merchant Mariner Medical Advisory Committee: Intercessional Meeting

AGENCY: Coast Guard, DHS.

ACTION: Notice of Federal Advisory Committee Working Group Meeting.

SUMMARY: Two working groups of the Merchant Mariner Medical Advisory Committee (MEDMAC) will meet to discuss Task Statement 1, “Revision of Navigation and Vessel Inspection Circular (NVIC) 04-08” and Task Statement 4, “Revision of CG-719K, Merchant Mariner Credential Medical Evaluation Report and CG-719K/E, Merchant Mariner Evaluation of Fitness for Entry Level Ratings.” The meeting will be open to the public.

DATES: The working groups will meet Tuesday, June 18 and Wednesday, June 19, 2013, from 8:00 a.m. to 5:00 p.m. Please note that the working groups may end early if they have completed their business. Written comments to be distributed to working group members are due by June 10, 2013.

ADDRESSES: The working groups will meet at the Paul Hall Center for Maritime Training and Education, 2nd floor conference room (Maryland Room), 45353 St. Georges Avenue, Piney Point, Maryland 20674-0075. For further information about the Paul Hall Center hotel facilities or services for individuals with disabilities or to request special assistance, contact Mr. Howard Thompson at (301) 994-0010 Ext. 0. Please be advised that in order to gain access to the Paul Hall Center, you must provide identification in the form of a government-issued picture identification card. If you plan to attend, please notify the individual listed in For Further Information ContacT, no later than June 10, 2013, so that administrative access into the Paul Hall Center can be processed prior to arrival.

To facilitate public participation, we are inviting public comment on the issues to be considered by the working groups as listed in the “Agenda” section below. Comments must be submitted in writing to the Coast Guard on or before June 10, 2013, and must be identified by USCG-2011-0138 and may be submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316). Please provide an electronic copy to the contact listed in FOR FURTHER INFORMATION CONTACT below no later than June 10, 2013. Your material will be placed on the MEDMAC Web site https://homeport.uscg.mil to be made available to the members of the working group and the public.

Docket: For access to the docket to read background documents or comments related to this notice, go to http://www.regulations.gov and search the docket number.

A public comment period will be held on June 18, 2013, approximately 8:15 a.m. to 8:30 a.m., and on June 19, 2013, from approximately 8:15 a.m. to 8:30 a.m. Speakers are requested to limit their comments to 5 minutes. Please note that the public comment period may end before the time indicated, following the last call for comments. Additionally, public comment will be sought throughout the meeting as specific issues are discussed by the working groups.

FOR FURTHER INFORMATION CONTACT: Lieutenant Ashley Holm, the MEDMAC Alternate Designated Federal Officer (ADFO), at telephone 202-372-1128 or email Ashley.e.holm@uscg.mil. If you have any questions on viewing or submitting material to the docket, call Barbara Hairston, Program Manager, Docket Operations, telephone 202-366-9826.

SUPPLEMENTARY INFORMATION: Notice of this meeting is given under the Federal Advisory Committee Act, 5 U.S.C. App. (Pub. L. 92-463). The MEDMAC is authorized by 46 U.S.C. 7115 as amended by section 210 of the Coast Guard Authorization Act of 2010 (Pub. L. 111-281) and advises the Secretary on matters related to (a) Medical certification determinations for issuance of licenses, certificates of registry, and merchant mariners' documents; (b) medical standards and guidelines for the physical qualifications of operators of commercial vessels; (c) medical examiner education; and (d) medical research.

Agenda

Day 1

The agenda for the June 18, 2013, working group meeting is as follows:

(1) Opening comments by Working Group Chairman.

(2) Public Comment Period.

(3) Working Groups address the following task statements:

(a) Task Statement 1, Revision of Navigation and Vessel Inspection Circular (NVIC) 04-08. The NVIC can be found at http://www.uscg.mil/hq/cg5/nvic/ Medical and Physical Guidelines for Merchant Mariner Credentials.

(b) Task Statement 4, Revision of CG-719K, Merchant Mariner Credential Medical Evaluation Report and CG-719K/E, Merchant Mariner Evaluation of Fitness for Entry Level Ratings.

(4) Closing remarks.

Day 2

The agenda for the June 19, 2013, working groups meeting is as follows:

(1) Public comment period.

(2) Continue work on Task Statement 1 and Task Statement 4.

(3) Working Groups will discuss and prepare final draft recommendations for the full committee to consider for presentation to the Coast Guard. The public will have an opportunity to speak after Working Group's discussion.

(4) Closing remarks/plans for next meeting.

Dated: May 30, 2013.
P.F. Thomas,
Captain, U.S. Coast Guard, Director of Inspections and Compliance.

[FR Doc. 2013-13404 Filed 6-3-13; 4:15 pm]

BILLING CODE 9110-04-P